FEDERAL RESERVE SYSTEM

Formations of, Acquisitions by, and Mergers of Bank Holding Companies

Correction

In the Federal Register of March 31, 2021, FR Doc. 2021-06525, the notice “Formations of, Acquisitions by, and Mergers of Savings and Loan Holding Companies” by the Federal Reserve Bank of Atlanta, Catalyst Bancorp, Inc., Opelousas, Louisiana; is corrected to read “Formations of, Acquisitions by, and Mergers of Bank Holding Companies”, and that the company listed applied to the Board for approval, pursuant to the Bank Holding Company Act of 1956 (12 U.S.C. 1841 et seq.), Regulation Y (12 CFR part 225), and all other applicable statutes and regulations, to become a bank holding company and/or to acquire the assets or the ownership of, control of, or the power to vote shares of a bank or bank holding company and all of the banks and nonbanking companies owned by the bank holding company. The comment period continues to end on April 29, 2021. Interested persons may continue to view the notice and submit comments as provided in 86 FR 16727 (March 31, 2021) no later than April 29, 2021.

Board of Governors of the Federal Reserve System.
Ann Misback,
Secretary of the Board.

[FR Doc. 2021-07727 Filed 4-14-21; 8:45 am]

BILLING CODE P